DEPARTMENT OF HEALTH AND HUMAN SERVICES

Administration on Aging

Agency Information Collection Activities; Proposed Collection; Comment Request; Certification of Maintenance of Effort Form Title III of the Older Americans Act, Grants for State and Community Programs on Aging

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to Certification of Maintenance of Effort Form Title III of the Older Americans Act, Grants for State and Community Programs on Aging.

DATES: Submit written or electronic comments on the collection of information by May 31, 2005.

ADDRESSES: Submit electronic comments on the collection of information to: margaret.tolson@aoa.gov.

Submit written comments on the collection of information to: Administration on Aging, Washington, DC 20201. Attention: Margaret Tolson.

FOR FURTHER INFORMATION CONTACT: Margaret Tolson, telephone: (202) 357-3440; e-mail: margaret.tolson@aoa.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

Title III of the Older Americans Act, Section 309(c), requires that a state's allotment be reduced by the percentage by which its state expenditures for a given fiscal year are less than its average annual expenditures from state sources for the period of three consecutive fiscal years preceding such fiscal year. Since information collected on the SF-269 report combines the funds from state and local sources, the Administration on Aging is unable to identify funds solely from State sources. The information contained on the Certification of Maintenance of Effort form will be used by the Administration on Aging to verify the amount of state expenditures and make comparisons with the average annual expenditures for the period of three consecutive fiscal years preceding the given year to assure that a state is in compliance with 45 CFR 1321.49.

AoA estimates the burden of this collection of information as follows: Approximately one-half hour per respondent with 52 State Agencies on Aging responding annually, thus producing a burden of 26 hours per year.

Dated: March 23, 2005.
Josefina G. Carbonell,
Assistant Secretary for Aging.

[FR Doc. 05-6095 Filed 3-28-05; 8:45 am]

BILLING CODE 4154-01-P